DEPARTMENT OF STATE

[Public Notice: 11750]

Notice of Public Meeting in Preparation for the International Maritime Organization NCSR 9 Meeting

The Department of State will conduct a public meeting at 12:00 p.m. on Wednesday, June 8, 2022, by way of teleconference. The primary purpose of this meeting is to prepare for the ninth session of the International Maritime Organization's (IMO) Sub-Committee on Navigation, Communication, and Search and Rescue (NCSR 9) to be held virtually from Tuesday, June 21, 2022 to Thursday, June 30, 2022.

Members of the public may participate up to the capacity of the teleconference phone line, which can handle 500 participants. To access the teleconference line, participants should call 202-475-4000 and use Participant Code 877 239 87#.

The agenda items to be considered at this meeting mirror those to be considered at NCSR 9 and include:

—Adoption of the agenda

—Decisions of other IMO bodies

—Routeing measures and mandatory ship reporting systems

—Updates to the LRIT system

—Development of generic performance standards for shipborne satellite navigation system receiver equipment

—Safety measures for non-SOLAS ships operating in polar waters

—Consideration of descriptions of Maritime Services in the context of e-navigation

—Revision of the Guidelines on places of refuge for ships in need of assistance (resolution A.949(23))

—Development of revisions and amendments to existing instruments relating to the amendments to the 1974 SOLAS Convention for modernization of the GMDSS

—Developments in GMDSS services, including guidelines on maritime safety information (MSI)

—Revision of the Criteria for the provision of mobile satellite communication services in the Global Maritime Distress and Safety System (GMDSS) (resolution A.1001(25))

—Response to matters related to the ITU-R Study Groups and ITU World Radiocommunication Conference

—Development of global maritime SAR services, including harmonization of maritime and aeronautical procedures

—Amendments to the IAMSAR Manual

—Guidance on the training on and operation of emergency personal radio devices in multiple casualty situations

—Revision of ECDIS Guidance for good practice (MSC.1/Circ.1503/Rev.1) and amendments to ECDIS performance standards (resolution MSC.232(82))

—Development of amendments to VDR performance standards and carriage Requirements

—Development of SOLAS amendments for mandatory carriage of electronic inclinometers on container ships and bulk carriers

—Unified interpretation of provisions of IMO safety, security, environment, facilitation, liability and compensation-related conventions

—Validated model training courses

—Biennial status report and provisional agenda for NCSR 10

—Election of Chair and Vice-Chair for 2023

—Any other business

Please note: The Sub-Committee may on short notice, adjust the NCSR 9 agenda to accommodate the constraints associated with the virtual meeting format. Any changes to the agenda will be reported to those who RSVP.

Those who plan to participate may contact the meeting coordinator, George Detweiler, by email at George.H.Detweiler@uscg.mil, by phone at (202) 372-1566, or in writing at 2703 Martin Luther King Jr. Ave. SE, Stop 7418, Washington, DC 20593-7418. Members of the public needing reasonable accommodation should advise Mr. Detweiler not later than June 1, 2022. Requests made after that date will be considered, but might not be possible to fulfill.

Additional information regarding this and other IMO public meetings may be found at: https://www.dco.uscg.mil/IMO.

(Authority: 22 U.S.C. 2656.)

Emily A. Rose,
Coast Guard Liaison Officer, Office of Ocean and Polar Affairs, Department of State.

[FR Doc. 2022-11199 Filed 5-24-22; 8:45 am]

BILLING CODE 4710-09-P